DEPARTMENT OF TRANSPORTATION

Federal Aviation Administration

[Docket No. FAA-2022-1254]

Agency Information Collection Activities: Requests for Comments; Clearance of a Renewed Approval of Information Collection: FAA Airport Data and Information

Correction

In Notice document 2022-20598, appearing on page 58178, in the issue of Friday. September 23, 2022, make the following correction:

On page 58178, in the second column, in the DATES: section, in the second line, “September 23, 2022” is corrected to read “November 22, 2022”.

[FR Doc. C1-2022-20598 Filed 9-29-22; 2:00 pm]

BILLING CODE 0099-10-D